ENVIRONMENTAL PROTECTION AGENCY

[Regional Docket Nos. V-2008-1, FRL-8978-1]

Clean Air Act Operating Permit Program; Petition for Objection to State Operating Permit for Columbia Generating Station

AGENCY: Environmental Protection Agency (EPA).

ACTION: Notice of final order on petition to object to Clean Air Act (Act) operating permit.

SUMMARY: This document announces that the EPA Administrator has responded to a petition asking EPA to object to an operating permit issued by the Wisconsin Department of Natural Resources (WDNR). Specifically, the Administrator granted in part and denied in part the petition submitted by the Sierra Club to object to the operating permit for Columbia Generating Station (Columbia).

Pursuant to sections 307(b) and 505(b)(2) of the Act, a petition for judicial review of those portions of the petition which EPA denied may be filed in the United States Court of Appeals for the appropriate circuit. Any petition for review shall be filed within 60 days from the date this notice appears in the Federal Register, pursuant to section 307 of the Act.

ADDRESSES: You may review copies of the final order, the petition, and other supporting information at the EPA Region 5 Office, 77 West Jackson Boulevard, Chicago, Illinois 60604. If you wish to examine these documents, you should make an appointment at least 24 hours before visiting day. Additionally, the final order for the Columbia petition is available electronically at: http://www.epa.gov/region07/programs/artd/air/title5/petitiondb/petitiondb.htm.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On September 3, 2008, EPA received a petition from the Sierra Club requesting that EPA object to the Title V operating permit for Columbia. The Petitioner alleges that the permit is not in compliance with the requirements of the Act. Specifically, the Petitioner alleges that: (1) Certain projects should have been subject to the prevention of significant deterioration program; (2) Wisconsin did not adequately respond to comments on the draft permit; (3) a schedule of compliance should have been included for opacity violations; and, (4) a case-by-case maximum achievable control technology standard should have been included in the permit.

On October 8, 2009, the Administrator issued an order granting the Columbia petition in part, and denying it in part. The order explains the reasons behind EPA's conclusion.

Dated: October 26, 2009.
Richard C. Karl,
Acting Regional Administrator, Region 5.

[FR Doc. E9-26697 Filed 11-4-09; 8:45 am]

BILLING CODE 6560-50-P